DEPARTMENT OF TRANSPORTATION

Federal Motor Carrier Safety Administration

Guidance on FMCSA's Publication: Your Rights and Responsibilities When You Move

AGENCY: Federal Motor Carrier Safety Administration (FMCSA), DOT.

ACTION: Notice.

SUMMARY: FMCSA provides a streamlined and more user-friendly version of its Your Rights and Responsibilities When You Move consumer protection publication. Household goods motor carriers (movers) and brokers may provide this document to individual shippers in lieu of the longer version currently in use.

DATES: This guidance is effective as of May 2, 2013.

FOR FURTHER INFORMATION CONTACT: Mr. Brodie Mack, FMCSA Household Goods Enforcement and Compliance Team Leader, Federal Motor Carrier Safety Administration, 1200 New Jersey Ave. SE., Washington, DC 20590-0001, (202) 366-8045.

SUPPLEMENTARY INFORMATION: May marks the start of the summer moving season. Thousands of households nationwide will be contemplating or arranging for the interstate transportation of household goods. Although this time is exciting for many households, it can also be a stressful time during which unscrupulous movers and brokers attempt to take advantage of individuals' vulnerabilities and lack of experience.

To better inform individual households of their rights and responsibilities when planning an interstate move and help prevent them from becoming victims of moving fraud, FMCSA makes consumer protection information available to the public on its Web site: www.protectyourmove.gov. FMCSA also requires all interstate household goods movers and brokers to provide prospective customers with a copy of or an electronic link to two consumer protection publications: Ready to Move?—Tips for a Successful Interstate Move and Your Rights and Responsibilities When You Move (see 49 CFR 375.213).

Effective today, FMCSA makes available a streamlined and more user-friendly version of Your Rights and Responsibilities When You Move at http://www.protectyourmove.gov/consumer/awareness/rights/rights.htm. Movers and brokers may elect to use either the longer version currently in use (see 49 CFR part 375, Appendix A) or the new streamlined version made available today on FMCSA's Web site. FMCSA intends to publish a Federal Register notice of proposed rulemaking at a later date soliciting comments on the new streamlined Your Rights and Responsibilities When You Move booklet. In the interim, and until FMCSA provides further notice, movers and brokers may provide prospective customers with either version in accordance with today's guidance. FMCSA will not take enforcement action against household goods motor carriers and brokers that distribute or link to the streamlined version in lieu of the longer version, so long as they otherwise comply with the requirements of 49 CFR 375.213.

Issued under the authority of delegation in 49 CFR 1.87: April 23, 2013.
Anne S. Ferro,
Administrator.

[FR Doc. 2013-10276 Filed 5-1-13; 8:45 am]

BILLING CODE 4910-EX-P